DEPARTMENT OF COMMERCE

Foreign-Trade Zones Board

Site Renumbering Notice; Foreign-Trade Zone 23—Buffalo, NY

Foreign-Trade Zone 23 was approved by the FTZ Board on March 31, 1976 (Board Order 110, 41 FR 14824, 4/7/76), and expanded on November 2, 1979 (Board Order 148, 44 FR 65802, 11/15/79), April 16, 1982 (Board Order 187, 47 FR 18014, 4/27/82), February 7, 1985 (Board Order 291, 50 FR 6372 2/15/85), October 30, 1989 (Board Order 445, 54 FR 46431, 11/3/89), and June 25, 1993 (Board Order 645, 58 FR 36390; 7/7/93).

FTZ 23 currently consists of the following sites: Site 1: (225 acres) within the Gateway Trade Center, Buffalo; Site 2: (298 acres)—Wehrle International Business Park, Amherst, adjacent to the Greater Buffalo International Airport; and, Site 2—Parcel A: (189 acres)—Aero and Airport Business Parks, Cheektowaga, New York, immediately adjacent to the airport; Site 2—Parcel B (194 acres)—the airport's air cargo facility and Airport Commerce Park, Cheektowaga; Site 3: (13 acres)—within the Oak-Michigan Industrial Corridor, Buffalo; Site 4: (22 acres)—at the former American Standard plant, Rano and Tonawanda Streets, Buffalo; Site 5: (55 acres)—within the 80-acre Grand Island Industrial Park, Grand Island; Site 5—Parcel A: (5 acres) located at 3036 Alt Boulevard, Grand Island; Site 6: (11 acres) located at 2299 Kenmore Avenue, Tonawanda, New York, operated by Speed Transportation.

The current update does not alter the physical boundaries that have previously been approved, but instead involves an administrative renumbering of some of the zone sites for record-keeping purposes. Under this revision, the site list for FTZ 23 will be as follows: Site 1: (225 acres) within the Gateway Trade Center, Buffalo; Site 2: (298 acres)—Wehrle International Business Park, Amherst, adjacent to the Greater Buffalo International Airport; Site 3: (13 acres)—within the Oak-Michigan Industrial Corridor, Buffalo; Site 4: (22 acres)—at the former American Standard plant, Rano and Tonawanda Streets, Buffalo; Site 5: (55 acres)—within the 80-acre Grand Island Industrial Park, Grand Island; Site 6: (11 acres) located at 2299 Kenmore Avenue, Tonawanda, New York, operated by Speed Transportation; Site 7: (189 acres)—Aero and Airport Business Parks, Cheektowaga, New York, immediately adjacent to the Greater Buffalo International Airport; Site 8: (194 acres)—the Greater Buffalo International Airport's air cargo facility and Airport Commerce Park, Cheektowaga; and, Site 9: (5 acres) located at 3036 Alt Boulevard, Grand Island.

For further information, contact Elizabeth Whiteman at Elizabeth_Whiteman@ita.doc.gov or (202) 482-0473.

Dated: April 7, 2009.
Andrew McGilvray,
Executive Secretary.

[FR Doc. E9-8633 Filed 4-14-09; 8:45 am]

BILLING CODE 3510-DS-P